DEPARTMENT OF LABOR

Mine Safety and Health Administration

30 CFR Part 75

RIN 1219-AA75

High-Voltage Longwall Equipment Standards for Underground Coal Mines; Correction

AGENCY: Mine Safety and Health Administration (MSHA), Labor.

ACTION: Final rule; correction.

SUMMARY: This corrects the Mine Safety and Health Administration's final rule establishing new mandatory standards for the design, installation, use, and maintenance of high-voltage longwall mining systems used in underground coal mines published March 11, 2002.

DATES: Effective on May 10, 2002.

FOR FURTHER INFORMATION CONTACT: Marvin W. Nichols, Jr., Director, Office of Standards, Regulations and Variances, MSHA, 4015 Wilson Boulevard, Arlington, Virginia 22203-1984. Mr. Nichols can be reached at nichols-marvin@msha.gov (Internet E-mail), 703-235-1910 (voice), or 703-235-5551 (fax). The Correction also is available on the Internet at http://www.msha.gov/REGSINFO.HTM.

SUPPLEMENTARY INFORMATION: On March 11, 2002, the Mine Safety and Health Administration published a final rule (67 FR 10972) revising our electrical safety standards for underground coal mines. This document corrects the final rule by adding the heading for Appendix A to Subpart I and corrects the placement of the appendix.

Dated: April 12, 2002.
Marvin W. Nichols, Jr.,
Director, Office of Standards, Regulations and Variances.

In the Federal Register of March 11, 2002, the illustration that appears on page 11005 should be corrected to read as set forth below and moved to appear immediately after § 75.822 on page 11003.

BILLING CODE 4510-43-P

[FR Doc. 02-9298 Filed 4-16-02; 8:45 am]

BILLING CODE 4510-43-C